DEPARTMENT OF THE INTERIOR

Fish and Wildlife Service

Notice of Availability, Final Restoration Plan

AGENCY: Fish and Wildlife Service, Interior.

ACTION: Notice of availability.

SUMMARY: The U.S. Fish and Wildlife Service (Service), on behalf of the Department of the Interior (DOI), National Oceanic and Atmospheric Administration (NOAA), and New York State Department of Environmental Conservation (New York), as natural resource trustees, announces the release of the Final Restoration Plan (RP) for the Mattiace Petrochemical Superfund Site (Site). The Final RP presents the selected restoration alternative, consisting of a single restoration project that compensates for impacts to natural resources caused by contaminant releases associated with the Site.

ADDRESSES: Requests for copies of the RP may be made to: U.S. Fish and Wildlife Service, New York Field Office, 3817 Luker Road, Cortland, NY 13045.

FOR FURTHER INFORMATION CONTACT: Ken Karwowski, Environmental Contaminants Program, U.S. Fish and Wildlife Service, New York Field Office, 3817 Luker Road, Cortland, NY 13045.

Interested parties may also call Ken Karwowski at 607-753-9334 or e-mail him at Ken_Karwowski@fws.gov for further information.

SUPPLEMENTARY INFORMATION: During the period of March 1996 through December 2000, natural resource damage settlements were achieved for the Mattiace Petrochemical Superfund Site. NOAA and the State of New York were settling Trustees with the DOI. A variety of hazardous chemicals were discharged from the Site into Glen Cove Creek, located in the Town of Oyster Bay, Nassau County, New York. Chemical releases and remedial activities at the Site adversely affected natural resources such as anadromous, catadromous, euryhaline, and marine finfish; shellfish; invertebrates; waterfowl; other migratory birds; and reptiles. The funds available from the settlement for restoration activities total approximately $155,000.

The RP is being released in accordance with the Comprehensive Environmental Response, Compensation and Liability Act (CERCLA) of 1980, as amended, commonly known as Superfund (42 U.S.C. 9601 et seq.), the Natural Resource Damage Assessment Regulations found at 43 CFR part 11, and the National Environmental Policy Act (NEPA). The Final RP is intended to describe the Trustees' selected alternative to restore natural resource injuries associated and affected by the Site.

The RP describes a number of habitat restoration and protection alternatives and discusses the environmental consequences of each. The restoration effort with the greatest potential to restore natural resources and services that were injured by contaminants or remedial activities is preferred. Based on an evaluation of the various restoration alternatives, the selected alternative consists of a single restoration project involving tidal marsh/wetland restoration and protection.

Copies of the RP are available from the Service's New York Field Office at 3817 Luker Road, Cortland, NY 13045. Additionally, the RP is available for viewing at the following Web site: http://nyfo.fws.gov/ec/MattiaceFRP.pdf. No written comments on the Draft Restoration Plan were received for consideration in the final restoration plan/environmental assessment.

Author: The primary author of this notice is Ken Karwowski, U.S. Fish and Wildlife Service, New York Field Office, 3817 Luker Road, Cortland, NY 13045.

Authority: The authority for this action is the CERCLA of 1980, as amended, commonly known as Superfund (42 U.S.C. 9601 et seq.), and the Natural Resource Damage Assessment Regulations found at 43 CFR part 11.

Dated: June 19, 2007.
Marvin E. Moriarty,
Regional Director, Region 5, U.S. Fish and Wildlife Service, U.S. Department of the Interior, DOI Designated Authorized Official.

[FR Doc. E7-13840 Filed 7-16-07; 8:45 am]

BILLING CODE 4310-55-P